DEPARTMENT OF COMMERCE

Census Bureau

Boundary and Annexation Survey (BAS)

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 12, 2004.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection forms and instructions should be directed to Nancy Goodman, Geography Division, U.S. Census Bureau, Washington, DC 20233-7400, or call (301) 763-1099.

SUPPLEMENTARY INFORMATION:

I. Abstract

The Census Bureau conducts the BAS to collect and maintain information about the inventory of the legal boundaries for and the legal actions affecting the boundaries of: counties and equivalent entities, incorporated places, minor civil divisions, and federally recognized legal American Indian and Alaska Native areas. This information provides an accurate identification of geographic areas for the Census Bureau to use in conducting the decennial and economic censuses and ongoing surveys, preparing population estimates, and supporting other statistical programs of the Census Bureau, and the legislative programs of the Federal government.

Through the BAS, the Census Bureau asks each government to review materials for its jurisdiction to verify the correctness of the information portrayed. Each government is asked to update the boundaries, supply information documenting each legal boundary change, and provide changes in the inventory of governments.

The BAS universe and mailing materials vary depending upon the needs of the Census Bureau in fulfilling its censuses and household surveys. Counties or equivalent entities, federally recognized American Indian reservations, off-reservation trust lands, and tribal subdivisions are included in every survey.

In the years ending in 8, 9, and 0, the BAS includes all governmentally active counties and equivalent entities, incorporated places, and legally defined minor civil divisions, and legally defined federally recognized American Indian and Alaska Native areas (including the Alaska Native Regional Corporations). Each governmental entity surveyed will receive materials covering its jurisdiction and one or more forms. These three years coincide with the Census Bureau's preparation for the decennial census.

In the years ending with 2 and 7, the BAS includes all legally defined federally recognized American Indian and Alaska Native areas, all governmental counties and equivalent entities, minor civil divisions in the six New England States and those with a population of 10,000 or greater in the States of Michigan, Minnesota, New Jersey, New York, Pennsylvania and Wisconsin, and those incorporated places that have a population of 2,500 or greater in all States.

The remaining years of the decade years ending in 1, 3, 4, 5, and 6 the BAS includes all legally defined federally recognized American Indian and Alaska Native areas, all governmental counties and equivalent entities, minor civil divisions in the six New England States, and incorporated places that have a population of 5,000 or greater in all States.

In the years ending in 1 through 7 the Census Bureau may enter into agreements with individual States to modify the universe of minor civil divisions and/or incorporated places to include additional entities that are known by that State to have had boundary changes, without regard to population size. In addition, the Census Bureau will include in the BAS each newly incorporated place in the year following notification of its incorporation. The BAS also will include each year a single respondent request for municipio, barrio, barrio-pueblo, and subbarrio boundary and status information in Puerto Rico and Hawaiian homeland boundary and status information in Hawaii.

No other Federal agency collects these data nor is there a standard collection of this information at the State level. The Census Bureau's BAS is a unique survey providing a standard result for use by Federal, State, local, and tribal governments and by commercial, private, and public organizations.

II. Method of Collection

The Census Bureau has developed an electronic response option. During the next 3 years, the Census Bureau will be developing additional electronic response options.

The first electronic response option was implemented during the 2003 survey. The respondents were issued a user name and password and given the opportunity to update the BAS forms via the Internet.

A second electronic response option, Web BAS is still in development. During the 2003 survey we tested an application in a pilot program that allowed the respondent to update both their forms and maps using the Internet. The feasibility of and methodology for this option is under development.

The third electronic response option is the Digital BAS. This option will provide a way for governments to submit digital files that represent the spatial location of their boundaries and associated information. Upon receipt and verification of these files, the Census Bureau will integrate the information into our database. The digital submission option is under development.

A BAS package that includes the following items is provided to each respondent:

1. An introductory letter from the Director of the Census Bureau.

2. The appropriate BAS Survey Form(s) that contains entity-specific identification information:

BAS-1—Incorporated Places;

BAS-2—Counties, Parishes, Boroughs, City and Boroughs, Census Areas;

BAS-3—Minor Civil Divisions;

BAS-4—Newly Incorporated Places or Newly Activated Places;

BAS-5—American Indian and Alaska Native Areas.

3. A unique user name and password for each entity so the respondents can respond electronically via the Internet.

4. A BAS Users Guide for Annotating the Maps.

5. A set of maps or other media showing the current boundaries of the entity.

6. A return envelope and postcards for respondents.

An official in each government is asked to verify the legal boundaries and provide boundary changes. The official is then asked to sign the materials and verify the forms and return the information to the Census Bureau.

The Census Bureau inserts the boundary and feature changes into the TIGER system, the Census Bureau's geographic database and associated data files.

III. Data

Office of Management and Budget (OMB) Number: 0607-0151.

Form Numbers: BAS-1, BAS-2, BAS-3, BAS-4, and BAS-5.

Type of Review: Regular submission.

Affected Public: State, local and tribal governments.

Estimated Number of Respondents:

2005 BAS—12,000 respondents per year;

2006 BAS—13,500 respondents per year;

2007 BAS—14,000 respondents per year.

Estimated Time Per Response: 3 hours.

Estimated Total Annual Burden Hours:

2005 BAS—36,000 burden hours;

2006 BAS—40,500 burden hours;

2007 BAS—42,000 burden hours.

Estimated Total Annual Cost: The estimated total annual cost is $5,347,019 for 2005, $6,014,780 for 2006 and $6,247,072 for 2007.

Respondent's Obligation: Voluntary.

Legal Authority: Title 13, U.S.C. section 6.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including the use of automated collection techniques or other forms of information technology.

Comments submitted in response to this notice will be summarized and/or included in the request for OMB approval of this information collection; they also will become a matter of public record.

Dated: February 6, 2004.
Madeleine Clayton,
Management Analyst, Office of the Chief Information Officer.

[FR Doc. 04-2980 Filed 2-10-04; 8:45 am]

BILLING CODE 3510-07-P